DEPARTMENT OF HEALTH AND HUMAN SERVICES

Centers for Disease Control and Prevention

Disease, Disability, and Injury Prevention and Control Special Emphasis Panel: State-Based Occupational Safety and Health Surveillance, Program Announcement Review 04-106

In accordance with section 10(a)(2) of the Federal Advisory Committee Act (Pub. L. 92-463), the Centers for Disease Control and Prevention (CDC) announces the following meeting:

Name: Disease, Disability, and Injury Prevention and Control Special Emphasis Panel (SEP): State-Based Occupational Safety and Health Surveillance, Program Announcement Review 04-106.

Times and Dates: 8 a.m.-8:30 a.m., December 1, 2004 (Open); 8:30 a.m.-6 p.m., December 1, 2004 (Closed); 8 a.m.-6 p.m., December 2, 2004 (Closed); 8 a.m.-5 p.m., December 3, 2004 (Closed).

Place: Embassy Suites Hotels, 1900 Diagonal Road, Alexandria, VA 23114, phone 703.684.5900.

Status: Portions of the meeting will be closed to the public in accordance with provisions set forth in section 552b(c) (4) and (6), Title 5 U.S.C., and the Determination of the Director, Management Analysis and Services Office, CDC, pursuant to Pub. L. 92-463.

Matters To Be Discussed: The meeting will include the review, discussion, and evaluation of applications received in response to Program Announcement Review 04-106.

For Further Information Contact: Bernadine B. Kuchinski, Ph.D., Occupational Health Consultant, National Institute for Occupational Safety and Health, CDC, 4676 Columbia Parkway, MS-C7, Cincinnati, OH 45226, Telephone 513.533.8511.

The Director, Management Analysis and Services Office, has been delegated the authority to sign Federal Register notices pertaining to announcements of meetings and other committee management activities, for both CDC and the Agency for Toxic Substances and Disease Registry.

Dated: October 18, 2004.
Alvin Hall,
Director, Management Analysis and Services Office, Centers for Disease Control and Prevention.

[FR Doc. 04-23722 Filed 10-21-04; 8:45 am]

BILLING CODE 4163-19-P